DEPARTMENT OF COMMERCE

National Oceanic and Atmospheric Administration

RIN 0648-XE476

Mid-Atlantic Fishery Management Council (MAFMC); Meeting

AGENCY: National Marine Fisheries Service (NMFS), National Oceanic and Atmospheric Administration (NOAA), Commerce.

ACTION: Notice of a public meeting.

SUMMARY: The Mid-Atlantic Fishery Management Council's (MAFMC) Collaborative Research Committee will hold a closed meeting to review and make recommendations on collaborative research project proposals.

DATES: The meeting will be held on Wednesday, March 23, 2016, from 9:30 a.m. to 4:30 p.m. For agenda details, see SUPPLEMENTARY INFORMATION.

ADDRESSES: The meeting will be held at the Double Tree by Hilton Baltimore—BWI Airport, 890 Elkridge Landing Road, Linthicum, Maryland 21090; telephone: (410) 859-8400.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION:

Agenda

The MAFMC's Collaborative Research Committee will hold a closed meeting to review and make recommendations on collaborative research project proposals. In December 2015, the Council published a Request for Proposals (RFP) for collaborative research projects that address seven research priorities. During the meeting, the Collaborative Research Committee will review and make funding recommendations on the proposals that were submitted in response to the RFP.

Special Accommodations

These meetings are physically accessible to people with disabilities. Requests for sign language interpretation or other auxiliary aid should be directed to M. Jan Saunders, (302) 526-5251, at least 5 days prior to the meeting date.

Authority: 16 U.S.C. 1801 et seq.

Dated: February 29, 2016.
Tracey L. Thompson,
Acting Director, Office of Sustainable Fisheries, National Marine Fisheries Service.

[FR Doc. 2016-04667 Filed 3-2-16; 8:45 am]

BILLING CODE 3510-22-P